FEDERAL ELECTION COMMISSION

Sunshine Act Meeting Notice

AGENCY: Federal Election Commission.

DATE & TIME: Thursday, August 23, 2012 at 10 a.m.

PLACE: 999 E Street NW., Washington, DC (Ninth Floor)

STATUS: This hearing will be open to the public.

Item To Be Discussed

Audit Hearing: McCain-Palin 2008, Inc. and McCain-Palin Compliance Fund, Inc.

Individuals who plan to attend and require special assistance, such as sign language interpretation or other reasonable accommodations, should contact Shelley E. Garr, Deputy Secretary, at (202) 694-1040, at least 72 hours prior to the hearing date.

PERSON TO CONTACT FOR INFORMATION: Judith Ingram, Press Officer, Telephone: (202) 694-1220.

Shawn Woodhead Werth,
Secretary and Clerk of the Commission.

[FR Doc. 2012-20532 Filed 8-16-12; 4:15 pm]

BILLING CODE 6715-01-P